DEPARTMENT OF COMMERCE

Bureau of Industry and Security

[Docket No. 060606153-6153-01]

National Defense Stockpile Market Impact Committee Request for Public Comments on the Potential Market Impact of Increasing the Proposed Fiscal Year 2007 Disposal Level for Tantalum Carbide Powder

AGENCY: Bureau of Industry and Security, Commerce.

ACTION: Notice of inquiry.

SUMMARY: This notice is to advise the public that the National Defense Stockpile Market Impact Committee, co-chaired by the Departments of Commerce and State, is seeking public comments on the potential market impact of increasing the National Defense Stockpile's proposed Fiscal Year 2007 Annual Materials Plan disposal level for tantalum carbide powder.

DATES: To be considered, written comments must be received by July 24, 2006.

ADDRESSES: Address all comments concerning this notice to Michael Vaccaro, U.S. Department of Commerce, Bureau of Industry and Security, Office of Strategic Industries and Economic Security, 1401 Constitution Avenue, NW., Room 3876, Washington, DC 20230, fax: (202) 482-5650 (Attn: Michael Vaccaro), e-mail: MIC@bis.doc.gov; or Stanley Specht, U.S. Department of State, Bureau of Economic and Business Affairs, Office of International Energy and Commodity Policy, Washington, DC 20520, fax: (202) 647-8758 (Attn: Stanley Specht), or e-mail: spechtsh@state.gov.

FOR FURTHER INFORMATION CONTACT: Eddy Aparicio, Office of Strategic Industries and Economic Security, Bureau of Industry and Security, U.S. Department of Commerce, Telephone: (202) 482-8234.

SUPPLEMENTARY INFORMATION:

Background

Under the authority of the Strategic and Critical Materials Stock Piling Act of 1979, as amended (50 U.S.C. 98, et seq.), the Department of Defense (DOD), as National Defense Stockpile Manager, maintains a stockpile of strategic and critical materials to supply the military, industrial, and essential civilian needs of the United States for national defense. Section 3314 of the Fiscal Year (FY) 1993 National Defense Authorization Act (NDAA) (50 U.S.C. 98h-1) formally established a Market Impact Committee (the Committee) to “advise the National Defense Stockpile Manager on the projected domestic and foreign economic effects of all acquisitions and disposals of materials from the stockpile * * *.” The Committee must also balance market impact concerns with the statutory requirement to protect the Government against avoidable loss.

The Committee is comprised of representatives from the Departments of Commerce, State, Agriculture, Defense, Energy, Interior, the Treasury, and Homeland Security, and is co-chaired by the Departments of Commerce and State. The FY 1993 NDAA directs the Committee to consult with industry representatives that produce, process, or consume the materials contained in the stockpile.

The Committee is seeking public comments on the potential market impact of increasing the National Defense Stockpile's proposed Fiscal Year 2007 Annual Materials Plan disposal level for tantalum carbide powder from 4,000 pounds to 13,000 pounds. Public comments are an important element of the Committee's market impact review process.

The quantity listed for tantalum carbide powder is not a disposal or sales target quantity, but rather a statement of the proposed maximum disposal quantity of the material that may be sold in a particular fiscal year by the DNSC. The quantity of the material that will actually be offered for sale will depend on the market for the material at the time of the offering as well as on the quantity of the material approved for disposal by Congress.

Submission of Comments

The Committee requests that interested parties provide written comments, supporting data and documentation, and any other relevant information on the potential market impact of the sale of this material. All comments must be submitted to the address indicated in this notice. All comments submitted through e-mail must include the phrase “Market Impact Committee Notice of Inquiry” in the subject line.

The Committee encourages interested persons who wish to comment to do so at the earliest possible time. The period for submission of comments will close on July 24, 2006. The Committee will consider all comments received before the close of the comment period. Comments received after the end of the comment period will be considered, if possible, but their consideration cannot be assured.

Anyone submitting business confidential information should clearly identify the business confidential portion of the submission and also provide a non-confidential submission that can be placed in the public record. The Committee will seek to protect such information to the extent permitted by law. All comments submitted in response to this notice will be made a matter of public record and will be available for public inspection and copying.

The Office of Administration, Bureau of Industry and Security, U.S. Department of Commerce, displays public comments on the BIS Freedom of Information Act (FOIA) Web site at http://www.bis.doc.gov/foia. This office does not maintain a separate public inspection facility. If you have technical difficulties accessing this Web site, please call BIS's Office of Administration at (202) 482-1900 for assistance.

Dated: June 15, 2006.
Eileen Albanese,
Director, Office of Exporter Services.

[FR Doc. E6-9942 Filed 6-22-06; 8:45 am]

BILLING CODE 3510-33-P